ENVIRONMENTAL PROTECTION AGENCY

[FRL-8983-8]

National Drinking Water Advisory Council's Climate Ready Water Utilities Working Group Meeting Announcement

AGENCY: Environmental Protection Agency.

ACTION: Notice.

SUMMARY: The Environmental Protection Agency (EPA or Agency) is announcing the first in-person meeting of the Climate Ready Water Utilities (CRWU) Working Group of the National Drinking Water Advisory Council (NDWAC). The purpose of this meeting is for the Working Group to begin addressing its charge, including defining the attributes of climate ready water utilities.

DATES: The first in-person CRWU Working Group meeting will take place on December 3, 2009, from 8:30 a.m. to 5 p.m., Eastern Standard Time (EST) and on December 4, 2009, from 8:30 am to 1:30 p.m., EST.

ADDRESSES: The meeting will take place at the Marriott Washington, which is located at 1221 22nd Street, NW., Washington, DC 20037.

FOR FURTHER INFORMATION CONTACT: Interested participants from the public should contact Lauren Wisniewski, Designated Federal Officer, U.S. Environmental Protection Agency, Office of Ground Water and Drinking Water, Water Security Division (Mail Code 4608T), 1200 Pennsylvania Avenue, NW., Washington, DC 20460. Please contact Lauren Wisniewski at wisniewski.lauren@epa.gov or call 202-564-2918 to receive additional details.

SUPPLEMENTARY INFORMATION:

Public Participation: There will be an opportunity for public comment during the CRWU Working Group meeting. Oral statements will be limited to five minutes, and it is preferred that only one person present the statement on behalf of a group or organization. Any person who wishes to file a written statement can do so before or after the CRWU Working Group meeting. Written statements received prior to the meeting will be distributed to all members of the Working Group before any final discussion or vote is completed. Any statements received after the meeting will become part of the permanent meeting file and will be forwarded to the CRWU Working Group members for their information. Any person needing special accommodations for this meeting, including wheelchair access, should contact the Designated Federal Officer at the number or e-mail listed under the FOR FURTHER INFORMATION CONTACT section, at least five business days before the meeting so that appropriate arrangements can be made.

Background: The Agency's National Water Program Strategy: Response to Climate Change (2008) identified the need to provide drinking water and wastewater utilities with easy-to-use resources to assess the risk associated with climate change and to identify potential adaptation strategies. The NDWAC, established under the Safe Drinking Water Act, as amended (42 U.S.C. 300f et seq.), provides practical and independent advice, consultation and recommendations to the Agency on the activities, functions and policies related to the implementation of the Safe Drinking Water Act. On May 28, 2009, the NDWAC voted on and approved the formation of the CRWU Working Group. EPA anticipates that the Working Group will have five face-to-face meetings over the course of the next year in addition to conference calls and/or video conferencing on an as needed basis. After the Working Group completes its charge, it will make recommendations to the full NDWAC. The full NDWAC will, in turn, make appropriate recommendations to the EPA.

Working Group Charge: The charge for the CRWU Working Group is to evaluate the concept of “Climate Ready Water Utilities” and provide recommendations to the full NDWAC on the development of an effective program for drinking water and wastewater utilities, including recommendations to: (1) Define and develop a baseline understanding of how to use available information to develop climate change adaptation and mitigation strategies, including ways to integrate this information into existing complementary programs such as the Effective Utility Management and Climate Ready Estuaries Program; (2) Identify climate change-related tools, training, and products that address short-term and long-term needs of water and wastewater utility managers, decision makers, and engineers, including ways to integrate these tools and training into existing programs; and (3) Incorporate mechanisms to provide recognition or incentives that facilitate broad adoption of climate change adaptation and mitigation strategies by the water sector into existing EPA Office of Water recognition and awards programs or new recognition programs.

Dated: November 16, 2009.
Cynthia C. Dougherty,
Director, Office of Ground Water and Drinking Water.

[FR Doc. E9-27940 Filed 11-19-09; 8:45 am]

BILLING CODE 6560-50-P